DEPARTMENT OF HOUSING AND URBAN DEVELOPMENT

[Docket No. FR-5529-N-04]

Notice of Regulatory Waiver Requests Granted for the Fourth Quarter of Calendar Year 2011

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2011, and ending on December 31, 2011.

FOR FURTHER INFORMATION CONTACT: For general information about this notice, contact Camille E. Acevedo, Associate General Counsel for Legislation and Regulations, Department of Housing and Urban Development, 451 7th Street, SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the fourth quarter of calendar year 2011.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2011 through December 31, 2011. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are set out in time sequence beginning with the earliest-dated regulatory waiver.

Should HUD receive additional information about waivers granted during the period covered by this report (the fourth quarter of calendar year 2011) before the next report is published (the first quarter of calendar year 2012), HUD will include any additional waivers granted for the fourth quarter in the next report.

Accordingly, information about approved waiver requests pertaining to HUD regulations is provided in the Appendix that follows this notice.

Dated: March 6, 2012.
Helen R. Kanovsky,
General Counsel.

APPENDIX

Listing of Waivers of Regulatory Requirements Granted by Offices of the Department of Housing and Urban Development October 1, 2011 Through December 31, 2011

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 91.115(c)(2).

Project/Activity: The State of New York requested a waiver of HUD regulation at 24 CFR 91.115(c)(2), which requires the citizen participation plan to provide a period not less than 30 days, to receive comments on the substantial amendment of the State's Consolidated Plan. The waiver would allow the State to reduce the comment period and expeditiously implement amendments to its Method of Distribution, and hence assist jurisdictions affected by Hurricane Irene and Tropical Storm Lee. A federal disaster declaration was issued for most jurisdictions in the State of New York on August 31, 2011.

Nature of Requirement: HUD's regulation at 24 CFR 91.115(c)(2) requires the citizen participation plan to provide a period not less than 30 days, to receive comments on the substantial amendment of the State's Consolidated Plan.

Granted by: Mercedes Márquez, Assistant Secretary for Community Planning and Development.

Date Granted: October 4, 2011.

Reason Waived: HUD determined that a reduced public comment period from 30 to 7 days would allow the State of New York to implement the amendment to its 2011 Method of Distribution and annual action plan and enable the State to provide assistance to affected local governments in a timely manner.

Contact: Steve Rhodeside, Director, State and Small Cities Division, Office of Block Grant Assistance, Office of Community Planning and Development, Department of Housing and Urban Development, 451 Seventh Street SW., Room 7184, Washington, DC 20410, telephone (202) 402-7375.

• Regulations: 24 CFR 92.2

Project/Activity: Charlottesville Consortium, Virginia, VA requested that HUD waive the definition of homeownership set forth at 24 CFR 92.2 to enable Fluvanna/Louisa Housing Foundation to provide homeowner rehabilitation assistance to a two-person household that did not meet the definition of homeownership.

Nature of Requirements: The HOME Investment Partnerships (HOME) program regulations at 24 CFR 92.2 defines homeownership as “ownership in fee simple title or a 99 year leasehold interest in a one- to four-unit dwelling or in a condominium, or equivalent form of ownership approved by HUD.”

Granted by: Mercedes Márquez, Assistant Secretary for Community Planning & Development.

Date Granted: October 14, 2011.

Reasons Waived: The waiver request information disclosed that one occupant of the household is mentally disabled and has an ownership interest through a trust, of which the individual is the sole beneficiary. Both the land and improvements are held by the trust, which is managed by a court-appointed attorney. The occupants qualify as a low-income household. HUD granted the waiver so that the disabled, low-income household would not have to continue to live in severely substandard conditions.

Contact: Virginia Sardone, Deputy Director, Office of Affordable Housing, Office of Community Planning and Development, Department of Housing and Urban Development, 451 Seventh Street SW., Room 7164, Washington, DC 20410, telephone (202) 708-2684.

• Regulation: 24 CFR 570.486(a)(5).

Project/Activity: The State of New York requested a waiver of HUD's Community Development Block Grant (CDBG) regulation at 24 CFR 570.486(a)(5),which addresses citizen public hearings. The waiver request stated that granting of the waiver would give the State some flexibility in addressing the needs of communities affected by Hurricane Irene and Tropical Storm Lee. A federal disaster was issued for most jurisdictions in the State of New York on August 31, 2011.

Nature of Requirement: The CDBG regulation at 24 CFR 570.486(a)(5) requires each unit of general local government to provide a minimum of two public hearings, at different stages of the program, for the purpose of obtaining citizens' views and responding to proposals and questions.

Granted by: Mercedes Márquez, Assistant Secretary for Community Planning and Development.

Date Granted: October 4, 2011.

Reason Waived: This waiver was determined necessary because, given the unexpected nature of the disaster, the waiver would allow the State of New York to address the needs and expenses of communities as they recover from the effects of the hurricane and tropical storm in a more timely manner.

Contact: Steve Rhodeside, Director, State and Small Cities Division, Office of Block Grant Assistance, Office of Community Planning and Development, Department of Housing and Urban Development, 451 Seventh Street SW., Room 7184, Washington, DC 20410, telephone (202) 402-1322.

• Regulation: 24 CFR 574.330(b)(1) and (b)(2).

Project/Activity: The Downtown Emergency Service Center (DESC), a competitive grant recipient in Seattle, WA, under the Housing Opportunities for Persons With AIDS (HOPWA) requested a waiver of the HOPWA short-term supported housing regulation to continue the provision of emergency shelter housing assistance to homeless men with challenging mental health issues. At the time of the waiver request, DESC was assisting 60 households in their short-term emergency housing facility, which is over the maximum 50 households allowed by HOPWA regulation.

Nature of Requirement: The HOPWA regulation at 24 CFR 574.330(b)(1) and (b)(2) address short-term supported housing and states that “A short-term supported facility may not provide shelter or housing at any single time for more than 50 families or individuals.”

Granted by: Mercedes Márquez, Assistant Secretary for Community Planning and Development.

Date Granted: December 1, 2011.

Reason Waived: It was determined that the unavailability of other reasonable critical short-term emergency housing options within close proximity of this facility was an impediment to identifying other housing options for homeless individuals with challenging mental health issues. Based on a continuing need that has resulted in two previous waiver request approvals, this waiver was granted for the duration of DESC's three year period which concludes on August 31, 2013.

Contact: Mark Johnston, Deputy Assistance Secretary for Special Needs, Office of Community Planning and Development, Department of Housing and Urban Development, 451 Seventh Street SW., Room 7276, Washington, DC 20410, telephone (202) 708-1590.

• Neighborhood Stabilization Program 3 Notice, published on October 19, 2010, at 75 FR 64333 (II.H.3.F), issued under the heading Community Planning and Development: Community Development Fund of title XII of Division A of the American Recovery and Reinvestment Act of 2009 (Public Law 111-5, approved February 17, 2009).

Project/Activity: Genesee County, Michigan requested a waiver of the 10 percent demolition cap under the Neighborhood Stabilization Program (NSP) which restricts grantees from spending more than 10 percent of total grant funds on demolition activities. Genesee County, requested a waiver to spend $532,644 or approximately twenty percent of its NSP3 allocation on demolition of blighted structures.

Nature of Requirement: Section II.H.3.F of the NSP3 Notice provides that a grantee may not use more than ten percent of its grant for demolition activities.

Granted by: Mercedes Márquez, Assistant Secretary for Community Planning and Development.

Date Granted: October 25, 2011.

Reason Waived: The County provided statistical data evidencing high vacancy and abandonment rates due to significant population and job loss. The County explained that there are a high number of properties requiring immediate demolition to remove safety hazards and the destabilizing influence of the blighted properties. With the additional funds to use towards demolition, the County expected to demolish an estimated 235 residential units. On the basis of this information, the waiver was granted.

Contact: Jessie Handforth Kome, Deputy Director, Office of Block Grant Assistance, Office of Community Planning and Development, Department of Housing and Urban Development, 451 Seventh Street SW., Room 7286, Washington, DC 20410, telephone (202) 402-5539.

II. Regulatory Waivers Granted by the Office of Housing—Federal Housing Administration (FHA)

For further information about the following regulatory waivers, please see the name of the contact person that immediately follows the description of the waiver granted.

• Regulation: 24 CFR 203.37a(b)(2).

Project/Activity: Extension of Temporary Exemption from Compliance with FHA's Regulation on Property Flipping, published on December 28, 2011 at 76 FR 81363.

Nature of Requirement: The regulation prohibits the use of FHA financing to purchase single family properties that are being resold within 90 days of the previous acquisition.

Granted by: Carol J. Galante, Acting Assistant Secretary for Housing-Federal Housing Commissioner.

Date Granted: December 22, 2011.

Reason Waived: With the home foreclosure rate remaining high across the nation, a temporary waiver of this regulation on a nationwide basis, subject to certain conditions, may contribute to stabilizing real estate prices and neighborhoods that have been heavily impacted by foreclosures, and may facilitate the sale and occupancy of foreclosed homes that have been rehabilitated by making the mortgages of such homes eligible for FHA mortgage insurance.

Contact: Karin B. Hill, Director, Office of Single Family Program Development, Office of Housing, Department of Housing and Urban Development, 451 Seventh Street SW., Room 9278, Washington, DC 20410, telephone (202) 708-2121.

• Regulation: 24 CFR 219.220(b).

Project/Activity: Northgate and Greenfield Apartments, Burlington, Vermont—FHA Project Numbers 026-55001 and 026-55002. The owner of the property was in the position of being unable to repay the Flexible Subsidy Operating Assistance Loan without dire consequences to the property and residents that reside there.

Nature of Requirement: HUD's regulations at 24 CFR 219.220(b) governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project* * *.” Either of these actions would typically terminate FHA involvement with the property, and the Flexible Subsidy Loan would be repaid, in whole, at that time.

Granted by: Carol J. Galante, Acting Assistant Secretary for Housing-Federal Housing Commissioner.

Date Granted: November 1, 2011.

Reason Waived: HUD granted the waiver, which allowed the owner to defer repayment of the Flexible Subsidy Loans, merge the Northgate and Greenfield properties into a single piece of real estate, combine Section 8 Housing Assistance Payment (HAP) contracts, combine Flexible Subsidy Loans, and redevelop the existing projects. In connection with the granting of the waiver, a Rental Use Agreement was recorded extending the affordability of the project for 40 years, the terms of the new financing.

Contact: Marilyn M. Edge, Acting Director, Office of Asset Management, Office of Housing, Department of Housing and Urban Development, 451 Seventh Street SW., Room 6136, Washington, DC 20410, telephone (202) 708-2654.

• Regulation: 24 CFR 219.220(b).

Project/Activity: Woodledge/Morrant Bay, Dorchester, Massachusetts—FHA Project Number 023-005-NI. The owner/managing agent requested a deferral of repayment of the Flexible Subsidy Operating Assistance Loan in order to redevelop the existing project.

Nature of Requirement: HUD's regulations at 24 CFR 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted by: Carol J. Galante, Acting Assistant Secretary for Housing-Federal Housing Commissioner.

Date Granted: October 31, 2011.

Reason Waived: The property owner was granted their request to defer repayment of the Flexible Subsidy loan as part of a proposal to redevelop the existing project. Granting the waiver allowed for the recapitalization of the project, restoring the original total of 129 units, with the same mix of unit sizes. The purchase and rehabilitation of the project is to be funded using Low-Income Housing Tax Credit equity, a new Risk Sharing mortgage, and other sources. In connection with the granting of the waiver, a new Rental Agreement was recorded, extending the affordability of the project for 40 years.

Contact: Marilyn M. Edge, Acting Director, Office of Asset Management, Office of Housing, Department of Housing and Urban Development, 451 Seventh Street SW., Room 6136, Washington, DC 20410, telephone (202) 708-2654.

• Regulation: 24 CFR 236.725.

Project/Activity: Roberto Clemente Plaza a.k.a. Kent Village, Brooklyn, New York—FHA Project Number 012-167NI. The owner/management agent requested waiver of the regulation to permit the continuation of Rental Assistance Payments after the payoff of the non-insured Section 236 mortgage under a Section 236(e)(2) Decoupling transaction.

Nature of Requirement: HUD regulations at 24 CFR 236.725 require that the rental assistance contract shall be limited to the term of the mortgage or 40 years from the date of the first payment made under the contract, whichever is the lesser.

Granted By: Carol J. Galante, Acting Assistant Secretary for Housing-Federal Housing Commissioner.

Date Granted: October 14, 2011.

Reason Waived: This waiver was granted to allow the project to continue receiving Rental Assistance Payments and avoid termination of tenant subsidy when the owner repays the mortgage as part of the decoupling process. The project is being processed under the Section 236 Decoupling program which states that the project may refinance its Section 236 insured mortgage and continue to receive the Section 236 Interest Reduction Payment subsidy, predicated on the project entering into a recorded Use Agreement. This Use Agreement will restrict the project's operation under the Section 236 program requirements until the maturity date of the original noninsured Section 236 mortgage plus an additional five years. As a result, the 534 units at the property will also undergo substantial rehabilitation. The project is to be maintained as an affordable housing resource for current and future residents of this neighborhood.

Contact: Marilyn M. Edge, Acting Director, Office of Asset Management, Office of Housing, Department of Housing and Urban Development, 451 Seventh Street SW., Room 6l60, Washington, DC 20410, telephone (202) 708-2654.

• Regulation: 24 CFR 232.3.

Project/Activity: The Villas at La Canada is a 100 percent high acuity assisted living facility located in Tucson, Arizona.

Nature of Requirement: HUD's regulation at 24 CFR 232.3 mandates in a board and care home or assisted living facility that the not less than one full bathroom must be provided for every four residents. Also, the bathroom cannot be accessed from a public corridor or area.

Granted By: Carol J. Galante, Acting Assistant Secretary for Housing-Federal Housing Commissioner.

Date Granted: December 2, 2011.

Reason Waived: The waiver was granted because of the specific clientele served by the Villas at La Canada, high acuity residents, many residents need assistance with bathing and present special circumstances that do not exist in a traditional assisted living facility. In terms of the existing buildings, the “hallways” which the residents in each building must cross in order to bathe are not located in an area that will be frequented by anyone other than staff or other residents.

Contact: Vance T. Morris, Special Assistant, Office of Healthcare Programs, Office of Housing, Department of Housing and Urban Development, 451 Seventh Street SW., Room 2337, Washington, DC 20410, telephone (202) 402-1672.

• Regulation: 24 CFR 232.3.

Project/Activity: Heritage Green Daybreak is a 60 bed assisted living facility located in Lynchburg, Virginia.

Nature of Requirement: HUD's regulation at 24 CFR 232.3 mandates in a board and care home or assisted living facility that the not less than one full bathroom must be provided for every four residents. Also, the bathroom cannot be accessed from a public corridor or area.

Granted By: Carol J. Galante, Acting Assistant Secretary for Housing-Federal Housing Commissioner.

Date Granted: December 2, 2011.

Reason Waived: HUD granted the waiver because the lender informed the Office of Healthcare Programs that subsequent to obtaining 232/223(f) insurance from the Federal Housing Administration (FHA), an expansion project would be commenced using HUD's authority under section 241(a) of the National Housing Act (12 U.S.C. 1715z-6). This expansion will add 10 additional full bathrooms in the facility, thereby, reducing the resident to full bathroom ratio to 4:1. In terms of the existing buildings, the “hallways” which the residents on each floor must cross in order to bathe are not located in an area that will be frequented by anyone other than staff or other residents.

Contact: Vance T. Morris, Special Assistant, Office of Healthcare Programs, Office of Housing, Department of Housing and Urban Development, 451 Seventh Street SW., Room 2337, Washington, DC 20410, telephone (202) 402-1672.

• Regulation: 24 CFR 232.3

Project/Activity: Heritage Green at Hanover is a 64 bed assisted living facility located at Mechanicsville, Virginia.

Nature of Requirement: HUD's regulation at 24 CFR 232.3 mandates in a board and care home or assisted living facility that the not less than one full bathroom must be provided for every four residents. Also, the bathroom cannot be accessed from a public corridor or area.

Granted By: Carol J. Galante, Acting Assistant Secretary for Housing-Federal Housing Commissioner.

Date Granted: December 2, 2011.

Reason Waived: HUD granted the waiver because the lender informed the Office of Healthcare Programs that subsequent to obtaining 232/223(f) insurance from FHA, an expansion project would be commenced using HUD's authority under section 241(a) of the (12 U.S.C. 1715z-6). This expansion will add 10 additional full bathrooms in the facility, thereby, reducing the resident to full bathroom ratio to 4:1. In terms of the existing buildings, the “hallways” which the residents on each floor must cross in order to bathe are not located in an area that will be frequented by anyone other than staff or other residents.

Contact: Vance T. Morris, Special Assistant, Office of Healthcare Programs, Office of Housing, Department of Housing and Urban Development, 451 Seventh Street SW., Room 2337, Washington, DC 20410, telephone (202) 402-1672.

• Regulation: 24 CFR 232.3.

Project/Activity: Hilton East Assisted Living serves 178 residents within the 140 room facility and is located in Hilton, New York.

Nature of Requirement: HUD's regulation at 232.3 mandates in a board and care home or assisted living facility that the not less than one full bathroom must be provided for every four residents. Also, the bathroom cannot be accessed from a public corridor or area.

Granted By: Carol J. Galante, Acting Assistant Secretary for Housing-Federal Housing Commissioner

Date Granted: December 20, 2011.

Reason Waived: HUD granted the waiver because Hilton East's full bathroom ratio was determined acceptable, because the frail elderly residents are assisted with their bathing by caregivers for safety purposes. To access the shower and tub bathing areas, the residents must exit their rooms and walk down the common hallway shared with the other residents in the sleeping area.

Contact: Vance T. Morris, Special Assistant, Office of Healthcare Programs, Office of Housing, Department of Housing and Urban Development, 451 Seventh Street SW., Room 2337, Washington, DC 20410, telephone (202) 402-1672.

• Regulation: 24 CFR 891.100(d).

Project/Activity: Rock Ridge Apartments, McAlester, OK; Project Number: 118-HD037/OK56-Q081-001.

Nature of Requirement: Section 891.100(d) prohibits amendment of the amount of the approved capital advance funds prior to closing.

Granted by: Carol J. Galante, Acting Assistant Secretary for Housing-Federal Housing Commissioner.

Date Granted: November 2, 2011.

Reason Waived: The project is economically designed and comparable in cost to similar projects in the area and the sponsor/owner exhausted all efforts to obtain additional funding from other sources.

Contact: Aretha Williams, Acting Director, Office of Housing Assistance and Grant Administration, Office of Housing, Department of Housing and Urban Development, 451 Seventh Street SW., Room 6134, Washington, DC 20410, telephone (202) 708-3000.

• Regulation: 24 CFR 891.100(d).

Project/Activity: Mojave Cedar Supportive Housing, Inc., Las Vegas, NV; Project Number: 125-HD077/NV25-Q091-001.

Nature of Requirement: Section 891.100(d) prohibits amendment of the amount of the approved capital advance funds prior to closing.

Granted by: Carol J. Galante, Acting Assistant Secretary for Housing-Federal Housing Commissioner.

Date Granted: November 8, 2011.

Reason Waived: The project is economically designed and comparable in cost to similar projects in the area and the sponsor/owner exhausted all efforts to obtain additional funding from other sources.

Contact: Aretha Williams, Acting Director, Office of Housing Assistance and Grant Administration, Office of Housing, Department of Housing and Urban Development, 451 Seventh Street SW., Room 6134, Washington, DC 20410, telephone (202) 708-3000.

• Regulation: 24 CFR 891.100(d).

Project/Activity: Leeway Welton Apartments, New Haven, CT; Project Number: 017-HD041/CT26-Q071-002.

Nature of Requirement: Section 891.100(d) prohibits amendment of the amount of the approved capital advance funds prior to closing.

Granted by: Carol J. Galante, Acting Assistant Secretary for Housing-Federal Housing Commissioner.

Date Granted: December 6, 2011.

Reason Waived: The project is economically designed and comparable in cost to similar projects in the area and the sponsor/owner exhausted all efforts to obtain additional funding from other sources.

Contact: Aretha Williams, Acting Director, Office of Housing Assistance and Grant Administration, Office of Housing, Department of Housing and Urban Development, 451 Seventh Street SW., Room 6134, Washington, DC 20410, telephone (202) 708-3000.

• Regulation: 24 CFR 891.100(d).

Project/Activity: Incor Two, Muskogee, OK; Project Number: 118-HD038/OK56-Q081-002.

Nature of Requirement: Section 891.100(d) prohibits amendment of the amount of the approved capital advance funds prior to closing.

Granted by: Carol J. Galante, Acting Assistant Secretary for Housing-Federal Housing Commissioner.

Date Granted: December 19, 2011.

Reason Waived: The project is economically designed and comparable in cost to similar projects in the area and the sponsor/owner exhausted all efforts to obtain additional funding from other sources.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Roeser Haciendas Senior Housing, Phoenix, AZ; Project Number: 123-EE107/AZ20-S081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 3, 2011.

Reason Waived: Additional time was needed for the sponsor/owner to complete the archeological review process, submit the firm commitment application and for the project to achieve initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Fillmore Haciendas, Phoenix, AZ; Project Number: 123-EE105/AZ20-S071-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 6, 2011.

Reason Waived: Additional time was needed for the initial closing package to be reviewed and for the project to achieve an initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Villa Davis (fka Triple R Behavioral Health), Phoenix, AZ; Project Number: 123-HD044/AZ20-Q081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 6, 2011.

Reason Waived: Additional time was needed for the sponsor/owner to secure additional funds to cover a significant shortfall and for the project to reach initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Liberty Resources 13, Philadelphia, PA; Project Number: 034-HD100/PA26-Q081-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 6, 2011.

Reason Waived: Additional time was needed for the project to achieve initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Northbrook Village II/AKA Berlin, Berlin, MA; Project Number: 023-EE232/MA06-S081-007.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 7, 2011.

Reason Waived: Additional time was needed for the required permits to be issued and for the project to reach an initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Colter Commons, Phoenix, AZ; Project Number: 123-EE109/AZ20-S081-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 7, 2011.

Reason Waived: Additional time was needed for the sponsor/owner to resolve some issues with the firm commitment application and for the project to achieve initial closing.

Contact: Aretha Williams, Acting Director, Office of Housing Assistance and Grant Administration, Office of Housing, Department of Housing and Urban Development, 451 Seventh Street SW., Washington, DC 20410, telephone (202) 708-3000.

• Regulation: 24 CFR 891.165.

Project/Activity: Leeway Welton Apartments, New Haven, CT; Project Number: 017-HD041/CT26-Q071-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 7, 2011.

Reason Waived: Additional time was needed for the firm commitment application to be resubmitted and processed and for the project to reach an initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Volunteers of America National Services, Gary, IN; Project Number: 073-EE125/IN36-S081-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 19, 2011.

Reason Waived: Additional time was needed for the firm commitment application to be submitted and processed and for the project to reach initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Newbury Senior Housing, Newbury, NH; Project Number: 024-EE120/NH36-S081-006.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 26, 2011.

Reason Waived: Additional time was needed due to litigation.

Contact: Aretha Williams, Acting Director, Office of Housing Assistance and Grant Administration, Office of Housing, Department of Housing and Urban Development, 451 7th Street SW., Room 6134, Washington, DC 20410, telephone (202) 708-3000.

• Regulation: 24 CFR 891.165.

Project/Activity: Lane Manor, Stone Mountain, GA; Project Number: 061-EE166/GA06-S081-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: October 26, 2011.

Reason Waived: Additional time was needed to issue a firm commitment and for the project to reach initial closing.

Contact: Aretha Williams, Acting Director, Office of Housing Assistance and Grant Administration, Office of Housing, Department of Housing and Urban Development, 451 7th Street SW., Room 6134, Washington, DC 20410, telephone (202) 708-3000.

• Regulation: 24 CFR 891.165.

Project/Activity: Incor Two, Muskogee, OK; Project Number: 118-HD038/OK56-Q081-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: November 10, 2011.

Reason Waived: Additional time was needed for the project to reach initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Bridge Gardens aka Bridge House II, Bronx, NY; Project Number: 012-HD106/NY36-Q011-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: November 18, 2011.

Reason Waived: Additional time was needed for review of the closing documents and for the project to reach initial closing.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Benedict's Place, Cherry Hill, NJ; Project Number: 035-EE056/NJ39-S081-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: November 23, 2011.

Reason Waived: Additional time was needed for the sponsor/owner to receive the firm commitment and prepare the initial closing package.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Shawnee Supportive Housing, Shawnee, KS; Project Number: 084-HD054/KS16-Q061-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: November 29, 2011.

Reason Waived: Additional time was needed for the sponsor/owner to receive the firm commitment and prepare the initial closing package.

Contact: Aretha Williams, Acting Director, Office of Housing Assistance and Grant Administration, Office of Housing, Department of Housing and Urban Development, 451 Seventh Street SW., Room 6134, Washington, DC 20410, telephone (202) 708-3000.

• Regulation: 24 CFR 891.165.

Project/Activity: Rock Ridge Apartments, McAlester, OK; Project Number: 118-HD037/OK56-Q081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: November 29, 2011.

Reason Waived: Additional time was needed for the sponsor/owner to receive the firm commitment and submit the initial closing documents.

Contact: Aretha Williams, Acting Director, Office of Housing Assistance and Grant Administration, Office of Housing, Department of Housing and Urban Development, 451 Seventh Street SW., Room 6134, Washington, DC 20410-8000, telephone (202) 708-3000.

• Regulation: 24 CFR 891.165.

Project/Activity: Lane Manor, Lithonia, GA; Project Number: 061-EE166/GA06-S081-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: December 7, 2011.

Reason Waived: Additional time was needed for the firm commitment to be issued and for the initial closing package to be submitted and processed.

Contact: Aretha Williams, Acting Director, Office of Housing Assistance and Grant Administration, Office of Housing, Department of Housing and Urban Development, 451 Seventh Street SW., Room 6134, Washington, DC 20410, telephone (202) 708-3000.

• Regulation: 24 CFR 891.830(c)(4).

Project/Activity: Dimmitt Woods, Batavia, OH; Project Number: 046-EE100/OH10-S091-002.

Nature of Requirement: Section 891.830(c)(4) requires that capital advance funds are drawn down only in an approved ratio to other funds, in accordance with a drawdown schedule approved by HUD.

Granted by: Carol J. Galante, Acting Assistant Secretary for Housing-Federal Housing Commissioner.

Date Granted: December 20, 2011.

Reason Waived: HUD in its response to the public comments in the final rule published September 13, 2005 (70 FR 54210), stated, “while HUD generally expects the capital advance funds to be drawn down in a one-to-one ratio for eligible costs actually incurred, HUD may permit on a case-by-case basis, some variance from the drawdown requirements as needed for the success of the project.” Therefore, the waiver was granted to permit capital advance funds to be used to collateralize the tax exempt bonds issued to finance the construction of the project and to pay off a portion of the tax-exempt bonds that strictly relate to capital advance eligible costs.

Contact: Aretha Williams, Acting Director, Office of Housing Assistance and Grant Administration, Office of Housing, Department of Housing and Urban Development, 451 Seventh Street SW., Room 6134, Washington, DC 20410, telephone (202) 708-3000.

III. Regulatory Waivers Granted by the Office of Public and Indian Housing

For further information about the following regulatory waivers, please see the name of the contact person that immediately follows the description of the waiver granted.

• Regulation: 24 CFR 5.801(d)(1).

Project/Activity: Housing Authority of the City of Diboll, (TX229), Diboll, TX.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: December 30, 2011.

Reason Waived: The HA advised that its auditor passed away during the audit fieldwork and that its new auditor was not able to meet the financial submission due dates as a result of other audited submission and income tax commitments. The HA requested a waiver of the Late Presumptive Failure (LPF) score of zero for the audited financial submission. The waiver was approved and provided additional time to permit the audit documentation to be completed and the financial statements to be prepared and their entry of the March 31, 2010, audited financial information into Real Estate Assessment Center's online system. However, this audited submission waiver does not apply to Circular A-133 submissions to the Federal Audit Clearinghouse. The HA is required to meet the A-133 due dates.

Contact: Johnson Abraham, Program Manager, NASS, Real Estate Assessment Center, Office of Public and Indian Housing, Department of Housing and Urban Development, 550 12th Street SW., Suite 100, Washington, DC 20410, telephone (202) 475-8583.

• Regulation: 24 CFR 5.801(d)(1).

Project/Activity: Virgin Islands Housing Authority, (VQ001), St. Thomas, VI.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: December 30, 2011.

Reason Waived: The HA requested an additional 60 days to submit its audited financial information under the Financial Assessment Subsystem (FASS) for fiscal year end (FYE) December 31, 2010. The HA advised that as a result of serious data migration problems related to the conversion to a new accounting system and an extensive reorganization of the Finance Department, the HA would not be able to submit their fiscal year 2010 audit by the September 30, 2011, due date. Additionally, HUD was advised that the HA's audit firm had issues with documentation and evidential support of significant balances and transactions and accounting knowledge of historical balances and transactions, affecting the current year. The waiver was approved and additional time was provided to permit the HA in conjunction with the auditor, to complete the fiscal year 2010 audit. However, this audited submission waiver does not apply to Circular A-133 submissions to the Federal Audit Clearinghouse. The HA is required to meet the A-133 due dates.

Contact: Johnson Abraham, Program Manager, NASS, Real Estate Assessment Center, Office of Public and Indian Housing, Department of Housing and Urban Development, 550 12th Street SW., Suite 100, Washington, DC 20410, telephone (202) 475-8583.

• Regulation: 24 CFR 5.801(d)(1).

Project/Activity: Hartshorne/Haileyville Housing Authority, (OK072), Hartshorne, OK.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: October 5, 2011.

Reason Waived: The HA advised that as a result of significant delays and missed due dates by its auditor, the HA's financial statement audit (non-A-133) would not be timely completed. The HA requested a waiver of the audited financial submission requirements for fiscal year end (FYE) June 30, 2010. Specifically, the HA requested an additional 180 days to submit its FYE June 30, 2010, audited financial information. The waiver was approved and additional time was provided to permit the audit documentation to be adequately completed. Granting the waiver also allowed ample time for drafting the financial statements and the inputting of the audited financial information into the on-line system. Since the HA is considered a small HA, comprised of approximately 44 units, and has expended approximately $118,000 in federal awards, the HA was asked to consider selecting unaudited/no audit for its unaudited submission type. Specifically, an audited submission is required when a HA expends over $500,000 in federal awards or receives audit costs as an audit add-on the 52723 Operating Subsidy form.

Contact: Johnson Abraham, Program Manager, NASS, Real Estate Assessment Center, Office of Public and Indian Housing, Department of Housing and Urban Development, 550 12th Street SW., Suite 100, Washington, DC 20410, telephone (202) 475-8583.

• Regulation: 24 CFR 5.801(d)(1).

Project/Activity: Rochester Housing Authority, (NY041), Rochester, NY.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing.

Date Granted: October 6, 2011.

Reason Waived: The HA requested a waiver of the audited financial submission under the Financial Assessment Subsystem (FASS) for fiscal year end (FYE) September 30, 2010. The HA advised that it's FASS audited information was submitted timely, but following a rejection by the FASS team, the corrected information was not resubmitted timely due to other processing activity of the finance department. Consequently, additional time was required to resubmit the FYE September 30, 2010, FASS audited submission. The waiver was granted and allowed additional time for the financial data schedule to be adequately completed and for the inputting of the corrected audited financial information into REAC's FASS on-line system. The HA was required to resubmit its audited financial information no later than October 15, 2011. However, this FASS audited submission waiver (extension) does not apply to Circular A-133 submission to the Federal Audit Clearing house.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: South Pittsburgh Housing Authority, (TN037), South Pittsburgh, TN.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: October 5, 2011.

Reason Waived: The housing authority (HA) experienced severe thunder storms with straight line winds that caused major damage to the HA's properties. The Federal Emergency Management Agency (FEMA) announced that Marion County had been declared a disaster area due to the storm. The damages include roofs, framing structures, weather heads, downed trees and extensive brush. After the brush is cleared, major site and property work will be required to repair the damages to the site and grounds. The HA advised that a physical inspection at this time, would unduly penalize the HA and adversely affect its Public Housing Assessment System (PHAS) score. The waiver was granted. Waiving the reporting requirements provided the HA with the necessary time to tend to any damage caused by the storm.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Housing Authority of the City of Goldsboro, (NC015), Goldsboro, NC.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: October 19, 2011.

Reason Waived: On April 27, 2011, the housing authority (HA) sustained extensive damage throughout the HA's inventory due to Hurricane Irene. The HA's properties experienced substantial damage to roofs, siding, fallen tree debris, and internal damage to walls and ceilings due to leaking roofs. The HA was able to repair some of the damage, however, a great deal of roofing, siding and general clean-up remains. The HA advised that a physical inspection at this time would unduly penalize the HA and adversely affect its Public Housing Assessment System score (PHAS). The waiver was granted and provided the HA with the necessary time to tend to any damage caused by the storm. The HA will be scheduled for its fiscal year 2012 inspection at a later date, which will become the baseline year of inspections under the PHAS Interim Rule.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Jasper Housing Authority, (AL012), Jasper, AL.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: October 26, 2011.

Reason Waived: On April 27, 2011, the housing authority (HA), along with other counties in the State of Alabama was declared disaster areas, as a result of incurring severe tornado damages. The HA suffered major damages and is currently working with the insurance adjustor in an effort to settle the damage claims. The HA advised that a physical inspection at this time, would unduly penalize the HA and adversely affect its Public Housing Assessment System (PHAS) score. The waiver was granted and provided the HA the necessary time to attend to any damage caused by the storm.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Phil Campbell Housing Authority, (AL090), Phil Campbell, AL

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: October 31, 2011.

Reason Waived: The Franklin County areas along with other counties in the State of Alabama were declared a disaster area on April 29, 2011, as a result of incurring severe tornado damage. The housing authority (HA) suffered major damages. As a result, the HA had to demolish 42 units, its office and maintenance shop due to the tornado damage. Since suffering damage to its properties, the HA has been working with the insurance adjustor in an effort to settle the damage claim. The HA advised that a physical inspection at this time, would unduly penalize the HA and adversely affect its Public Housing Assessment System (PHAS) score. The waiver was granted providing the HA with the necessary time to attend to any damage caused by the storm.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Housing Authority of Leeds, (AL069), Leeds, AL.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: December 30, 2011.

Reason Waived: On April 27, 2011, the housing authority (HA), along with other counties in the State of Alabama was declared disaster areas, as a result of incurring severe tornado damages. The HA had many fallen trees that caused major damage to its properties. The HA advised that a physical inspection at this time, would unduly penalize the HA and adversely affect its Public Housing Assessment System (PHAS) score. The waiver was granted providing the HA with the necessary time to attend to any damage caused by the storm.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Housing Authority of the City of Joplin, (M0188), Joplin, MO.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: December 30, 2011.

Reason Waived: On May 22, 2011, Joplin Missouri was struck by a tornado, which resulted in devastation throughout the city. The HA suffered extensive damage to its properties and its administrative offices. It has been determined that 103 low-income public housing units were completely destroyed. The HA advised that a physical inspection at this time, would unduly penalize the HA and adversely affect its Public Housing Assessment System (PHAS) score. The waiver was granted providing the HA with the necessary time to attend to any damage caused by the storm.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Hackleburg Housing Authority, (AL076), Guin, AL.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: December 30, 2011.

Reason Waived: On April 27, 2011, the county that encompasses the housing authority (HA) was declared a disaster area as a result of incurring severe tornado damage. The HA suffered major damage to its properties. The HA advised that a physical inspection at this time, would unduly penalize the HA and adversely affect its Public Housing Assessment System (PHAS) score. The waiver was granted providing the HA with the necessary time to attend to any damage caused by the storm.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Rahway Housing Authority, (NJ032), Rahway, NJ.

Nature of Requirement: The objective of HUD's regulation at 24 CFR 902.20 is to determine whether a housing authority (HA) is meeting the standard of decent, safe, sanitary, and in good repair. The Real Estate Assessment Center (REAC) provides for an independent physical inspection of a HA's property or properties that includes a statistically valid sample of the units.

Granted By: Sandra B. Henriquez, Assistant Secretary for Public and Indian Housing.

Date Granted: December 30, 2011.

Reason Waived: On August 26, 2011, Hurricane Irene caused severe damage in New Jersey. There was significant flooding and damage to the HA, as well as several areas of New Jersey. As a direct result of the hurricane, the HA evacuated 33 senior citizen units. Restoration of the damaged units is anticipated to be completed in the beginning of 2012. The HA advised that a physical inspection at this time, would unduly penalize the HA and adversely affect its Public Housing Assessment System (PHAS) score. The waiver was granted providing the HA with the necessary time to attend to any damage caused by Hurricane Irene.

Contact: Johnson Abraham, Program Manager, NASS, Real Estate Assessment Center, Office of Public and Indian Housing, Department of Housing and Urban Development, 550 12th Street SW., Suite 100, Washington, DC 20410, telephone (202) 475-8583.

• Regulation: 24 CFR 941.606(n)(1)(ii).

Project/Activity: Boulevard Homes HOPE VI Project, Charlotte, NC.

Nature of Requirement: HUD's regulation at 24 CFR 941.606(n)(1)(ii) requires public housing agencies (PHAs) to certify that they will use an open and competitive process to select its partners. The provision requires that “if the partner and/or owner entity (or any other entity with an identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: October 25, 2011.

Reason Granted: The seamless assignment of the Master Developer Agreement to Laurel Street would allow the project to move forward with no delays and no negative impact on the project. HUD therefore found good cause to waive 24 CFR 941.606(n)(1)(ii), which allowed the Charlotte Housing Authority to select Laurel Street without a competitive process. HUD authorizes this selection pursuant to the provisions of 24 CFR 85.36(d)(4)(i)(C), which allows procurement by non-competitive proposal if authorized by the awarding agency.

Contact: Dominique Blom, Deputy Assistant Secretary, Office of Public Housing Investments, Office and Public and Indian Housing, Department of Housing and Urban Development, 451 Seventh Street SW., Room 1430, Washington, DC 20410, telephone (202) 402-8500.

• Regulation: 24 CFR 941.606(n)(1)(ii).

Project/Activity: Preserve at Fairground Village, Gulfport, MS.

Nature of Requirement: HUD's regulation at 24 CFR 941.606(n)(1)(ii) requires PHAs to certify that they will use an open and competitive process to select its partners. The provision requires that “if the partner and/or owner entity (or any other entity with an identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: October 25, 2011.

Reason Granted: Mississippi Regional Housing Authority No. VIII submitted an independent cost estimate for Preserve at Fairground Village prepared by Lucius Cook, Estimator. The estimate totaled $3,360,068. The South Mississippi Housing and Development Corporation also submitted the construction contract costs with Landmark Construction Services, providing a fixed price of $2,799,300. As the Landmark Construction Services contract cost was below that of the independent cost estimate, HUD's condition is satisfied, and the waiver was granted.

Contact: Dominique Blom, Deputy Assistant Secretary, Office of Public Housing Investments, Office of Public and Indian Housing, Department of Housing and Urban Development, 451 Seventh Street SW., Room 1430, Washington, DC 20410, telephone (202) 402-8500.

• Regulation: 24 CFR 941.606(n)(1)(ii).

Project/Activity: Nannie Helen Burroughs, District of Columbia (DC).

Nature of Requirement: HUD's regulation at 24 CFR 941.606(n)(1)(ii) requires PHAs to certify that they will use an open and competitive process to select its partners. The provision requires that “if the partner and/or owner entity (or any other entity with an identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: December 12, 2011.

Reason Granted: In March 2006, DCHA entered into a Memorandum of Understanding with the DC's Office of the Deputy Mayor for Planning and Economic Development (DMPED) to create a Master Plan for the Lincoln Heights community. In December 2006, the DC Council approved the Master Plan and DC issued a request for proposal to develop off-site replacement units. The company, A. Wash and Associates, Inc., responded and proposed development of property it owned at 4800 Nannie Helen Burroughs, NE., plus adjacent land owned by the District. The proposed project was approved by DC and awarded a development contract. HUD reviewed, and acknowledged, the District of Columbia Housing Authority's (DCHA) decision to procure Wash/Charlie May, LLC through a noncompetitive proposal, as permitted under 24 CFR 85.36(d)(4). As a result of this action, DCHA cannot submit the required certifications and assurances that it will use open and competitive process to select its partners, as required under 24 CFR 941.606(n)(1)(ii), as part of its mixed-finance proposal for 4800 Nannie Helen Burroughs. HUD therefore waived 24 CFR 941.606(n)(1)(ii) for the limited purpose of selecting Wash/Charlie May, LLC as the developer.

Contact: Dominique Blom, Deputy Assistant Secretary, Office of Public Housing Investments, Office of Public and Indian Housing, Department of Housing and Urban Development, 451 Seventh Street SW., Room 1430, Washington, DC 20410, telephone (202) 402-8500.

• Regulation: 24 CFR 982.503(d) and 982.505(c)(3).

Project/Activity: Enterprise Housing Authority (EHA), Enterprise, AL.

Nature of Requirement: HUD's regulation at 24 CFR 982.503(d) states that HUD may consider and approve a public housing agency's establishment of a payment standard lower than the basic range, but that HUD will not approve a lower payment standard if the family share for more than 40 percent of participants in the agency's voucher program exceeds 30 percent of adjusted monthly income. HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: October 19, 2011.

Reason Waived: This waiver was granted because these cost-saving measures would enable the EHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 982.505(c)(3).

Project/Activity: Anasco Public Housing Authority (APHA), Anasco, PR.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted by: Sandra B. Henriquez, Assistant Secretary for Public and Indian Housing.

Date Granted: September 29, 2011.

Reason Waived: This waiver was granted because this cost-saving measure would enable the APHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 982.505(c)(3).

Project/Activity: Lumberton Housing Authority (LHA), Lumberton, NC.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: October 20, 2011.

Reason Waived: This waiver was granted because this cost-saving measure would enable the LHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 982.505(d).

Project/Activity: Howard County Housing Commission (HCHC), Columbia, MD.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: November 22, 2011.

Reason Waived: The participant, who is disabled, requires an exception payment standard to move to a smoke-free building. The health care provider confirmed the need for this participant to move to such a building. To provide this reasonable accommodation so the client could move and pay no more than 40 percent of her adjusted income toward the family share, the HCHC was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 982.505(d).

Project/Activity: Franklin County Regional Housing and Redevelopment Authority (FCRHRA), Franklin County, MA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: November 29, 2011.

Reason Waived: The participant, who is disabled, requires an exception payment standard to move to a first-floor unit in a smoke-free building. The health care provider confirmed the need for this participant to move to this unit. To provide this reasonable accommodation so the client could be assisted in a new unit and pay no more than 40 percent of her adjusted income toward the family share, the FCRHRA was allowed to approve an exception payment standard that exceeded the basic range of 90 to 110 percent of the FMR.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 983.51.

Project/Activity: Detroit Housing Commission (DHC), Detroit, MI.

Nature of Requirement: HUD's regulation at 24 CFR 983.51 requires competitive selection of owner proposals for project-based voucher (PBV) assistance unless the units were competitively selected under a similar competitive process as described in the regulation.

Granted By: Sandra B. Henriquez, Assistant Secretary for Public and Indian Housing.

Date Granted: November 30, 2011.

Reason Waived: The project, East Jefferson Affordable Assisted Living, is part of the East Jefferson Neighborhood Project. The Project will be part of an integrated continuum of affordable senior housing and service programs in the core city area which currently has limited coordinated service delivery. The waiver was granted because there is a federal investment of $4.5 million of the city's HOME funds that were competitively awarded and should be protected.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Bristow Housing Authority (BHA), Bristow, OK.

Nature of Requirement: HUD's regulation at 24 CFR 985.101(a) states that a public housing agency must submit the HUD-required Section Eight Management Assessment Program (SEMAP) certification form within 60 calendar days after the end of its fiscal year.

Granted By: Sandra B. Henriquez, Assistant Secretary for Public and Indian Housing.

Date Granted: October 6, 2011.

Reason Waived: Due to circumstances beyond the BHA's control it was unable to submit its SEMAP certification by the deadline of August 29, 2011. HUD therefore granted the waiver.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Michigan State Housing Development Authority (MSHDA), Detroit, MI.

Nature of Requirement: HUD's regulation at 24 CFR 985.101(a) states that a public housing agency must submit the HUD-required Section Eight Management Assessment Program (SEMAP) certification form within 60 calendar days after the end of its fiscal year.

Granted By: Sandra B. Henriquez, Assistant Secretary for Public and Indian Housing.

Date Granted: October 6, 2011.

Reason Waived: Due to circumstances beyond the MSHDA's control it was unable to submit its SEMAP certification by the deadline of August 29, 2011.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: River Rouge Housing Authority (RRHA), River Rouge, MI.

Nature of Requirement: 24 CFR 985.101(a) states that a public housing agency must submit the HUD-required Section Eight Management Assessment Program (SEMAP) certification form within 60 calendar days after the end of its fiscal year.

Granted By: Sandra B. Henriquez, Assistant Secretary for Public and Indian Housing.

Date Granted: October 6, 2011.

Reason Waived: Due to circumstances beyond the RRHA's control it was unable to submit its SEMAP certification by the deadline of August 29, 2011. HUD therefore granted the waiver.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Broken Bow Housing Authority (BBHA), Broken Bow, OK.

Nature of Requirement: HUD's regulation at 24 CFR 985.101(a) states that a public housing agency must submit the HUD-required Section Eight Management Assessment Program (SEMAP) certification form within 60 calendar days after the end of its fiscal year.

Granted By: Sandra B. Henriquez, Assistant Secretary for Public and Indian Housing.

Date Granted: October 7, 2011.

Reason Waived: Due to circumstances beyond the BBHA's control it was unable to submit its SEMAP certification by the deadline of August 29, 2011. HUD therefore granted the waiver.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: McAlester Housing Authority (MHA), McAlester, OK.

Nature of Requirement: HUD's regulation at 24 CFR 985.101(a) states that a public housing agency must submit the HUD-required Section Eight Management Assessment Program (SEMAP) certification form within 60 calendar days after the end of its fiscal year.

Granted By: Sandra B. Henriquez, Assistant Secretary for Public and Indian Housing.

Date Granted: October 13, 2011.

Reason Waived: Due to circumstances beyond the MHA's control it was unable to submit its SEMAP certification by the deadline of August 29, 2011. HUD therefore granted the waiver.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Lawton Housing Authority (LHA), Lawton, OK.

Nature of Requirement: HUD's regulation at 24 CFR 985.101(a) states that a public housing agency must submit the HUD-required Section Eight Management Assessment Program (SEMAP) certification form within 60 calendar days after the end of its fiscal year.

Granted By: Sandra B. Henriquez, Assistant Secretary for Public and Indian Housing.

Date Granted: October 14, 2011.

Reason Waived: Due to circumstances beyond the LHA's control it was unable to submit its SEMAP certification by the deadline of August 29, 2011. HUD therefore granted the waiver.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Detroit Housing Commission (DHC), Detroit, MI.

Nature of Requirement: HUD's regulation at 24 CFR 985.101(a) states that a public housing agency must submit the HUD-required Section Eight Management Assessment Program (SEMAP) certification form within 60 calendar days after the end of its fiscal year. HUD therefore granted the waiver.

Granted By: Sandra B. Henriquez, Assistant Secretary for Public and Indian Housing.

Date Granted: October 25, 2011.

Reason Waived: Due to circumstances beyond the DHC's control it was unable to submit its SEMAP certification by the deadline of August 29, 2011. HUD therefore granted the waiver.

Contact: Laure Rawson, Director, Housing Voucher Management and Operations Division, Office of Public Housing and Voucher Programs, Office of Public and Indian Housing, Department of Housing and Urban Development, 451 Seventh Street SW., Room 4210, Washington, DC 20410, telephone (202) 708-0477.

• Regulation: 24 CFR 985.101(a).

Project/Activity: Housing Authority of Calvert County, Charles County Housing Authority, Elkton Housing Authority, MD.

Nature of Requirement: HUD's regulation at 24 CFR 985.101(a) states that a public housing agency must submit the HUD-required Section Eight Management Assessment Program (SEMAP) certification form within 60 calendar days after the end of its fiscal year.

Granted By: Sandra B. Henriquez, Assistant Secretary for Public and Indian Housing.

Date Granted: November 2, 2011.

Reason Waived: These housing authorities with fiscal year end dates of June 30th were affected by Tropical Storm Irene which hit Maryland on August 28, 2011. These agencies had power outages, flooding and numerous fallen trees. Consequently, they were unable to submit their SEMAP certifications by the deadline of August 29, 2011, and HUD therefore granted the waiver.

Contact: Laure Rawson, Director, Housing Voucher Management and Operations Division, Office of Public Housing and Voucher Programs, Office of Public and Indian Housing, Department of Housing and Urban Development, 451 Seventh Street SW., Room 4210, Washington, DC 20410, telephone (202) 708-0477.

[FR Doc. 2012-6050 Filed 3-12-12; 8:45 am]

BILLING CODE 4210-67-P